DEPARTMENT OF HOMELAND SECURITY

Federal Emergency Management Agency

[Docket ID FEMA-2023-0002; Internal Agency Docket No. FEMA-B-2358]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Online location of letter of map revision | Date of modification | Community No.
Arizona:
Pima | Town of Marana (23-09-0611P). | The Honorable Ed Honea, Mayor, Town of Marana, 11555 West Civic Center Drive, Marana, AZ 85653. | Engineering Department, Marana Municipal Complex, 11555 West Civic Center Drive, Marana, AZ 85653. | https://msc.fema.gov/portal/advanceSearch. | Oct. 23, 2023 | 040118
Yavapai | Unincorporated Areas of Yavapai County (22-09-1395P). | The Honorable James Gregory, Chair, Board of Supervisors, Yavapai County, 1015 Fair Street, 3rd Floor, Prescott, AZ 86305. | Yavapai County Flood Control District, 1120 Commerce Drive, Prescott, AZ 86305. | https://msc.fema.gov/portal/advanceSearch. | Sep. 14, 2023 | 040093
California:
Los Angeles | City of Malibu (23-09-0599P). | The Honorable Paul Grisanti, Mayor, City of Malibu, 23825 Stuart Ranch Road, Malibu, CA 90265. | City Hall, 23825 Stuart Ranch Road, Malibu, CA 90265. | https://msc.fema.gov/portal/advanceSearch. | Oct. 20, 2023 | 060745
Los Angeles | Unincorporated Areas of Los Angeles County (23-09-0599P). | The Honorable Janice Hahn, Chair, Board of Supervisors, Los Angeles County, 500 West Temple Street, Room 822, Los Angeles, CA 90012. | Los Angeles County Public Works Headquarters, Watershed Management Division, 900 South Fremont Avenue, Alhambra, CA 91803. | https://msc.fema.gov/portal/advanceSearch. | Oct. 20, 2023 | 065043
Riverside | City of Menifee (22-09-1724P). | The Honorable Bill Zimmerman, Mayor, City of Menifee, 29844 Haun Road, Menifee, CA 92586. | Public Works and Engineering Department, 29714 Haun Road, Menifee, CA 92586. | https://msc.fema.gov/portal/advanceSearch. | Oct. 20, 2023 | 060176
Riverside | City of Norco (22-09-1188P). | The Honorable Robin Grundmeyer, Mayor, City of Norco, 2870 Clark Avenue, Norco, CA 92860. | City Hall, 2870 Clark Avenue, Norco, CA 92860. | https://msc.fema.gov/portal/advanceSearch. | Oct. 13, 2023 | 060256
Riverside | City of Perris (22-09-1745P). | The Honorable Michael Vargas, Mayor, City of Perris, 101 North D Street, Perris, CA 92570. | Engineering Department, 24 South D Street, Suite 100, Perris, CA 92570. | https://msc.fema.gov/portal/advanceSearch. | Oct. 16, 2023 | 060258
San Bernardino | City of Rancho Cucamonga (22-09-0746P). | The Honorable L. Dennis Michael, Mayor, City of Rancho Cucamonga, 10500 Civic Center Drive, Rancho Cucamonga, CA 91730. | City Hall, Engineering Department Plaza Level, 10500 Civic Center Drive, Rancho Cucamonga, CA 91730. | https://msc.fema.gov/portal/advanceSearch. | Oct. 2, 2023 | 060671
San Bernardino | Unincorporated Areas of San Bernardino County (21-09-1996P). | The Honorable Dawn Rowe, Chair, Board of Supervisors, San Bernardino County, 385 North Arrowhead Avenue, 5th Floor, San Bernardino, CA 92415. | San Bernardino County Public Works, Water Resources Department, 825 East 3rd Street, San Bernardino, CA 92415. | https://msc.fema.gov/portal/advanceSearch. | Oct. 11, 2023 | 060270
San Diego | Unincorporated Areas of San Diego County (23-09-0045P). | The Honorable Nora Vargas, Chair, Board of Supervisors, San Diego County, 1600 Pacific Highway, Room 335, San Diego, CA 92101. | San Diego County Flood Control District, Department of Public Works, 5510 Overland Avenue, Suite 410, San Diego, CA 92123. | https://msc.fema.gov/portal/advanceSearch. | Oct. 2, 2023 | 060284
Florida:
Bay | City of Panama City Beach (22-04-3762P). | The Honorable Mark Sheldon, Mayor, City of Panama City Beach, City Hall, 17007 Panama City Beach Parkway, Panama City Beach, FL 32413. | City Hall, 110 South Arnold Road, Panama City Beach, FL 32413. | https://msc.fema.gov/portal/advanceSearch. | Oct. 25, 2023 | 120013
Bay | Unincorporated Areas of Bay County (22-04-3762P). | Philip Griffitts, Chair, Board of Bay County Commissioners, 840 West 11th Street, Panama City, FL 32401. | Bay County Planning and Zoning, 707 Jenks Avenue, Suite B, Panama City, FL 32401. | https://msc.fema.gov/portal/advanceSearch. | Oct. 25, 2023 | 120004
Clay | Unincorporated Areas of Clay County (23-04-0201P). | Howard Wanamaker, County Manager, Clay County, P.O. Box 1366, Green Cove Springs, FL 32043. | Clay County, Public Works Department, 5 Esplanade Avenue, Green Cove Springs, FL 32043. | https://msc.fema.gov/portal/advanceSearch. | Oct. 20, 2023 | 120064
Illinois:
Cook | City of Oak Forest (22-05-2765P). | The Honorable Henry Kuspa, Mayor, City of Oak Forest, 15440 South Central Avenue, Oak Forest, IL 60452. | City Hall, 15440 South Central Avenue, Oak Forest, IL 60452. | https://msc.fema.gov/portal/advanceSearch. | Oct. 23, 2023 | 170136
Cook | Unincorporated Areas of Cook County (20-05-1896P). | Toni Preckwinkle, President, Cook County Board of Commissioners, 118 North Clark Street, Room 537, Chicago, IL 60602. | Cook County Building and Zoning Department, 69 West Washington Street, 28th Floor, Chicago, IL 60602. | https://msc.fema.gov/portal/advanceSearch. | Oct. 6, 2023 | 170054
Cook | Unincorporated Areas of Cook County (22-05-2765P). | Toni Preckwinkle, President, Cook County Board of Commissioners, 118 North Clark Street, Room 537, Chicago, IL 60602. | Cook County Building and Zoning Department, 69 West Washington Street, 28th Floor, Chicago, IL 60602. | https://msc.fema.gov/portal/advanceSearch. | Oct. 23, 2023 | 170054
Cook | Village of Richton Park (20-05-1896P). | Rick Reinbold, Village President, Village of Richton Park, 4455 Sauk Trail, Richton Park, IL 60471. | Municipal Building, 4455 Sauk Trail, Richton Park, IL 60471. | https://msc.fema.gov/portal/advanceSearch. | Oct. 6, 2023 | 170149
Lake | Village of Mundelein (23-05-0305P). | The Honorable Steve Lentz, Mayor, Village of Mundelein, 300 Plaza Circle, Mundelein, IL 60060. | Village Hall, 300 Plaza Circle, Mundelein, IL 60060. | https://msc.fema.gov/portal/advanceSearch. | Oct. 10, 2023 | 170382
Lake | Village of Vernon Hills (23-05-0305P). | Roger Byrne, Village President, Village of Vernon Hills, 290 Evergreen Drive, Vernon Hills, IL 60061. | Village Hall, 290 Evergreen Drive, Vernon Hills, IL 60061. | https://msc.fema.gov/portal/advanceSearch. | Oct. 10, 2023 | 170394
Indiana:
Allen | City of Fort Wayne (22-05-1754P). | The Honorable Tom Henry, Mayor, City of Fort Wayne, City Hall, 200 East Berry Street, Suite 470, Fort Wayne, IN 46802. | Department of Planning Services, 200 East Berry Street, Suite 150, Fort Wayne, IN 46802. | https://msc.fema.gov/portal/advanceSearch. | Oct. 5, 2023 | 180003
Allen | Unincorporated Areas of Allen County (22-05-1754P). | F. Nelson Peters, Commissioner, Allen County Board of Commissioners, Citizens Square, 200 East Berry Street, Suite 410, Fort Wayne, IN 46802. | Allen County Department of Planning Services, 200 East Berry Street, Suite 150, Fort Wayne, IN 46802. | https://msc.fema.gov/portal/advanceSearch. | Oct. 5, 2023 | 180302
Kansas:
Johnson | City of Shawnee (22-07-1041P). | The Honorable Michelle Distler, Mayor, City of Shawnee, City Hall, 11110 Johnson Drive, Shawnee, KS 66203. | City Hall, 11110 Johnson Drive, Shawnee, KS 66203. | https://msc.fema.gov/portal/advanceSearch. | Aug. 30, 2023 | 200177
Michigan:
Oakland | City of Troy (23-05-0001P). | The Honorable Ethan Baker, Mayor, City of Troy, 500 West Big Beaver Road, Troy, MI 48084. | City Hall, 500 West Big Beaver Road, Troy, MI 48084. | https://msc.fema.gov/portal/advanceSearch. | Sep. 22, 2023 | 260180
Minnesota:
Dakota | Unincorporated Areas of Dakota County (22-05-3188P). | Matt Smith, Manager, Dakota County, 1590 Highway 55, Hastings, MN 55033. | Dakota County Administration Center, 1590 Highway 55, Hastings, MN 55033. | https://msc.fema.gov/portal/advanceSearch. | Oct. 30, 2023 | 270101
Nevada:
Clark | City of North Las Vegas (23-09-0579P). | The Honorable Pamela Goynes-Brown, Mayor, City of North Las Vegas, 2250 Las Vegas Boulevard North, Suite 910, North Las Vegas, NV 89030. | Public Works Department, 2250 Las Vegas Boulevard North, Suite 200, North Las Vegas, NV 89030. | https://msc.fema.gov/portal/advanceSearch. | Oct. 18, 2023 | 320007
New Jersey:
Monmouth | Township of Neptune (22-02-0510P). | The Honorable Keith Cafferty, Mayor, Township of Neptune, P.O. Box 1125, Neptune, NJ 07754. | Township Hall, Construction Department, 25 Neptune Boulevard, Neptune, NJ 07753. | https://msc.fema.gov/portal/advanceSearch. | Oct. 19, 2023 | 340317
Monmouth | Township of Wall (22-02-0510P). | The Honorable Timothy J. Farrell, Mayor, Township of Wall, 2700 Allaire Road, Wall, NJ 07719. | Township Hall, Municipal Building, 2700 Allaire Road, Wall, NJ 07719. | https://msc.fema.gov/portal/advanceSearch. | Oct. 19, 2023 | 340333
Oregon:
Washington | City of Beaverton (22-10-0942P). | The Honorable Lacey Beaty, Mayor, City of Beaverton, 12725 Southwest Millikan Way, 5th Floor, Beaverton, OR 97076. | Community Development Department, 12725 Southwest Millikan Way, Beaverton, OR 97076. | https://msc.fema.gov/portal/advanceSearch. | Sep. 29, 2023 | 410240
Virginia:
Independent City | City of Virginia Beach (22-03-0299P). | The Honorable Robert Dyer, Mayor, City of Virginia Beach, City Hall, 2401 Courthouse Drive, Building #1, Virginia Beach, VA 23456. | Department of Public Works, 2405 Courthouse Drive, Building 1, Municipal Center Building #2, Virginia Beach, VA 23456. | https://msc.fema.gov/portal/advanceSearch. | Sep. 27, 2023 | 515531
Wisconsin:
Brown | Unincorporated Areas of Brown County (20-05-4610P). | Patrick Buckley, Chair, Brown County Board of Supervisors, 305 East Walnut Street, Green Bay, WI 54305. | Brown County Office Northern Building, 305 East Walnut Street, Room 320, Green Bay, WI 54301. | https://msc.fema.gov/portal/advanceSearch. | Oct. 31, 2023 | 550020

[FR Doc. 2023-16743 Filed 8-4-23; 8:45 am]

BILLING CODE 9110-12-P